DEPARTMENT OF ENERGY

Federal Energy Regulatory Commission

Combined Notice of Filings #2

Take notice that the Commission received the following electric rate filings:

Docket Numbers: ER13-107-005.

Applicants: South Carolina Electric & Gas Company.

Description: South Carolina Electric & Gas Company submits Order No. 1000 10.16.2013 to be effective 12/31/9998.

Filed Date: 10/16/13.

Accession Number: 20131016-5103.

Comments Due: 5 p.m. ET 11/14/13.

Docket Numbers: ER13-2122-001.

Applicants: Fowler Ridge Wind Farm LLC.

Description: Fowler Ridge Wind Farm LLC submits Compliance Filing—Amdmt to MBR Tariff Previous Filing of 8/7/2013 to be effective 10/17/2013.

Filed Date: 10/16/13.

Accession Number: 20131016-5091.

Comments Due: 5 p.m. ET 11/6/13.

Docket Numbers: ER14-103-000.

Applicants: Horsehead Corporation.

Description: Horsehead Corporation submits FERC Electric Rate Schedule No. 1 to be effective 10/16/2013.

Filed Date: 10/16/13.

Accession Number: 20131016-5036.

Comments Due: 5 p.m. ET 11/6/13.

Docket Numbers: ER14-104-000.

Applicants: Public Service Company of Colorado.

Description: Public Service Company of Colorado submits tariff filing per 35.13(a)(2)(iii: 2013-10-16-PSCo-HLYCRS-Reimb of Expenditures-354 to be effective 12/15/2013.

Filed Date: 10/16/13.

Accession Number: 20131016-5089.

Comments Due: 5 p.m. ET 11/6/13.

Docket Numbers: ER14-105-000.

Applicants: Southern California Edison Company.

Description: Southern California Edison Company Cancels Three Rate Schedules Related to the Four Corners Project (RS Nos. 47, 48, and 461).

Filed Date: 10/16/13.

Accession Number: 20131016-5107.

Comments Due: 5 p.m. ET 11/6/13.

Docket Numbers: ER14-106-000.

Applicants: Midcontinent Independent System Operator, Inc.

Description: Midcontinent Independent System Operator, Inc. submits tariff filing per 35.13(a)(2)(iii: 2013-10-15 RSG Day Ahead Gaming Filing to be effective 10/17/2013.

Filed Date: 10/16/13.

Accession Number: 20131016-5111.

Comments Due: 5 p.m. ET 11/6/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 16, 2013.
Nathaniel J. Davis, Sr.,
Deputy Secretary.

[FR Doc. 2013-24826 Filed 10-22-13; 8:45 am]

BILLING CODE 6717-01-P